DEPARTMENT OF HEALTH AND HUMAN SERVICES

Centers for Disease Control and Prevention

CDC-INFO Contact Center; Announcement

AGENCY: Centers for Disease Control and Prevention.

ACTION: Public notice.

SUMMARY: The Centers for Disease Control and Prevention announces a new consolidated consumer response service for health information inquiries called the CDC-INFO Contact Center and is phasing out of numerous existing hotlines and clearinghouses serving those purposes.

SUPPLEMENTARY INFORMATION: This notice is being published pursuant to The Office of Management and Budget (OMB) Circular A-130, “Management of Federal Information Resources,” Section 8.a.6.(j) which requires federal agencies to provide adequate notice when initiating, substantially modifying, or terminating significant information dissemination products.

CDC is transitioning to a new consumer response service (CRS) offering that will consolidate virtually all of CDC's existing hotlines, clearinghouses, and other information fulfillment services for the public and health professionals seeking health information from CDC. Beginning in February 2005 and extending over the following 2-3 years, the breadth of CDC's health topics will be transitioned into the new consolidated service.

The CRS will handle incoming calls, fax transmissions, postal mail, e-mails, and web inquiries, 24 hours a day, every day. Responses will be provided verbally, via fax, e-mail, interactive web, or postal mail based on the nature of the information request and the caller's preferred response method. The service will be multilingual (Spanish initially) and include services for the hearing impaired.

As the current services are transitioned, existing hotlines and clearinghouses will be phased out. Targeted notifications will be disseminated to the particular communities of interest as each health topic is transitioned. Similarly, the CDC voice/fax information service, (CDC VIS) which is an interactive voice response system will be phased out when the majority of health topics have been transitioned.

The overall objective of the CDC-INFO Contact Center is to ensure the dissemination of consistent, timely, reliable health information to a variety of consumers, and to address variations in the number of inquiries related to public health emergencies, news events, and dynamic, shifting public health priorities. Specific objectives are to bring CDC closer to citizens and improve their ability to access health information from CDC. The CDC-INFO Contact Center will provide service at the first level of contact to give citizens the health information they want, when they want it, and how they want it. In addition to optimizing customer interactions, the CDC-INFO Contact Center will reduce the unit cost of providing health information, support accountability, and employ performance-based metrics to meet customer satisfaction goals.

FOR FURTHER INFORMATION CONTACT: Dottie Knight, CDC, telephone 404-498-3208 (dsknight@cdc.gov) or Suzi Gates, CDC, telephone 404-639-7829 (sgates@cdc.gov).

Dated: March 14, 2005.
James Seligman,
Chief Information Officer, Centers for Disease Control and Prevention.

[FR Doc. 05-5495 Filed 3-18-05; 8:45 am]

BILLING CODE 4163-18-P